DEPARTMENT OF THE INTERIOR

Fish and Wildlife Service

Notice of Availability of the Draft Comprehensive Conservation Plan and Environmental Assessment for Lacassine National Wildlife Refuge in Cameron and Evangeline Parishes, LA

AGENCY: Fish and Wildlife Service, Interior.

ACTION: Notice of availability

SUMMARY: The Fish and Wildlife Service announces that a Draft Comprehensive Conservation Plan and Environmental Assessment for Lacassine National Wildlife Refuge is available for distribution. This document was prepared pursuant to the National Wildlife Refuge System Administration Act of 1966, as amended, and the National Environmental Policy Act of 1969. The draft plan and environmental assessment describes the Service's proposal for management of the refuge for 15 years.

DATES: Written comments must be received at the postal or electronic address listed below no later than December 11, 2006.

ADDRESSES: To provide written comments or to obtain a copy of the draft plan and environmental assessment, please contact the Project Leader, Southwest Louisiana National Wildlife Refuge Complex, 1428 Highway 27, Bell City, Louisiana 70630; Telephone: 337-598-2216. Comments may also be submitted via electronic mail to judy_mcclendon@fws.gov. The draft plan and environmental assessment may be accessed and downloaded from the Service's Internet site http://southeast.fws.gov/planning/.

SUPPLEMENTARY INFORMATION: The National Wildlife Refuge System Administration Act of 1966, as amended by the National Wildlife Refuge System Improvement Act of 1997 (16 U.S.C. 668dd-66ee), requires the Service to develop a comprehensive conservation plan for each refuge. The purpose in developing a plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

Background: Lacassine National Wildlife Refuge is one of four refuges that makes up the Southwest Louisiana National Wildlife Refuge Complex. It is located at the edge of Grand Lake and 15 miles from the Gulf of Mexico in Cameron and Evangeline Parishes in Louisiana. The 34,724-acre refuge is strategically located on the boundary of coastal marsh and agricultural habitats; as well as at the southern terminus of the Mississippi and Central Flyways, making the refuge critically important to migratory birds, especially wintering waterfowl. Habitat types and approximate acreage on the refuge include: 14,700 acres of fresh marsh; 16,000 acres of impounded fresh marsh; 1,048 acres of open water, 352 acres of forested wetlands, 348 acres of shrub wetlands; 1,109 acres of croplands (e.g., rice and fallow); 307 acres of early successional wetlands; and 334 acres of coastal prairie, plus roads, levees, etc. About 3,300 acres are set aside with wilderness designation.

Lacassine National Wildlife Refuge was established on December 30, 1937, as Lacassine Migratory Waterfowl Refuge by the following: (1) Executive Order 7780 “as a Refuge and breeding ground for migratory birds and other wildlife,” and (2) the Migratory Bird Conservation Act “for use as an inviolate sanctuary, or any other management purpose, for migratory birds” (16 U.S.C. 715d). Additional lands were added to the refuge under the Fish and Wildlife Act of 1956 “for the development, advancement, management, conservation, and protection of fish and wildlife resources” [16 U.S.C. 742f(a)(4)] and “for the benefit of the United States Fish and Wildlife Service in performing its activities and services” [16 U.S.C. 742f(b)(1)].

Significant issues addressed in the draft plan and environmental assessment include: Migratory bird management; management for special habitats, such as the wilderness area, Lacassine Pool (i.e., freshwater impoundment), and prairie habitat; water management; management of oil and gas activities; access management for public use activities, including recreational freshwater sportfishing, fishing tournaments, and hunting; and protection of cultural resources.

Also included in the draft plan and environmental assessment are compatibility determinations for the following: Berry picking (collecting berries, fruits, and nuts); environmental education and interpretation; recreational freshwater sportfishing; recreational freshwater sportfishing tournaments; recreational hunting; research and monitoring; wildlife observation and photography; commercial alligator harvests; commercial video and photography; commercially guided wildlife viewing, photography, environmental education, and interpretation; and cooperative farming.

The Service developed three alternatives for management of the refuge and chose Alternative B as the proposed alternative.

Alternative A represents no change from current management of the refuge. Under the “No Action” Alternative the refuge will remain at 34,724 acres in fee title, including Farm Service Agency transfer lands and the lease of the 652-acre Cameron Parish school section. With no action, marsh loss rates of at least 0.23 percent per year are anticipated (low to moderate loss) in the Mermentau River Basin; similar rates are expected in other areas of the refuge. The refuge will continue to manage impounded freshwater marsh (16,000 acres), state-jurisdictional waterways (Lacassine Bayou and Mermentau River), ephemeral freshwater marsh (Streeter Canal and Duck Pond), and manage upland vegetation to benefit native plants. Acreages of different habitats will remain as they are now. About 3,300 acres south of the Gulf Intracoastal Waterway will continue to be formally designated as wilderness. Management at Lacassine Refuge will focus on biological monitoring, wildlife management, invasive plant management, moist-soil management, cooperative farming program management, and priority public use management, including hunting, fishing and environmental education.

Alternative B is the Service's proposed action to maximize refuge management capabilities in all programs. Under the proposed alternative, the refuge would pursue acquiring, from willing sellers, lands within its approved acquisition boundary. The 3,300-acre Wilderness Area would remain the same size. Gross habitat acreages (until approved acquisition boundary expansion occurs) would not change appreciably from those under Alternative A, but habitats in general would be managed more intensively. The refuge would also expand existing wildlife management programs including: Focus refuge management on improving and extending the value of Lacassine Pool as a waterfowl sanctuary through adaptive management and increased emphasis on research; provide additional waterfowl food by increasing early successional wetland acreage from 300 to 500 acres and expanding the farming program; pursue opportunities to reduce erosion to refuge marshes caused by commercial navigation, wind/wave action, other natural forces, and oil and gas industry traffic/activities. The refuge would evaluate the seasonality and habitat conditions for prescribed fire in Lacassine Pool and other refuge marshes to enhance habitat for migratory birds, fish, and other wildlife; seek support to control invasive plants in the Wilderness Area and refuge-wide using approved minimum tools; continue partnerships to manage and protect the 334-acre coastal prairie on the Duralde Unit; improve quality hunting/fishing experiences; and manage oil and gas activities in accordance with Service policy. Under this alternative, levees would be constructed within Lacassine Pool, subdividing it into four units (Unit D, plus three additional units). This action would facilitate the management of the pool and lengthen its longevity by increasing the ability of refuge staff to dewater it, drawing it down to facilitate oxidation of accumulating organic sediments and more frequent use of prescribed fire. Thus, management could proceed unit-by-unit on a regular basis without having to impact the value of the entire pool to migratory birds and fisheries all at once. The six priority wildlife-dependent public uses would continue to be supported and in some cases would be expanded. This alternative would also strengthen the close working relationship in existence between the Service, the local community, conservation organizations, and the Louisiana Department of Wildlife and Fisheries.

Under Alternative C, the refuge would remain at 34,724 acres but would refocus management priority to actively investigating and extending the life/value of Lacassine Pool as a migratory waterfowl sanctuary. Due to sedimentation rates and constraints on water level management capabilities, the pool's lifespan is limited and, if nothing is done, it would gradually lose its value to both migratory waterfowl and fish populations, eventually becoming a wet meadow rather than a marshy wetland characterized by a mix of open water and emergent vegetation. Other programs dealing either with non-pool areas of the refuge or non-habitat aspects of refuge management (i.e., cooperative farming, moist-soil management, upland vegetation management, visitor services and priority public uses) would be managed at a reduced level since refuge resources would be directed to the pool. Under this alternative, levees would be constructed within the pool, subdividing it into six units over the next 10-15 years. This action would facilitate the management of the pool and lengthen its longevity by increasing the ability of refuge staff to dewater it, drawing it down to facilitate oxidation of accumulating sediments and more beneficial use of prescribed fire. Thus, management could proceed unit-by-unit on a regular basis without having to impact the value of the entire pool to fisheries and migratory birds all at once.

The Service believes that Alternative B will be the most effective one to contribute to the purpose for which the refuge was established and to the mission of the National Wildlife Refuge System. Implementation of the goals, objectives, and strategies of Alternative B will allow the refuge to maintain freshwater marsh and upland prairie habitat; serve as a critical resting area for waterfowl in a heavily hunted area; conserve, restore, and enhance diverse habitats for migratory and native wildlife species; maintain healthy and viable native fish and wildlife populations; provide opportunities for safe, quality, compatible, wildlife-dependent public use and recreation; and protect cultural resources.

After the review and comment period for the draft plan and environmental assessment, all comments will be analyzed and considered by the Service. All comments received from individuals on the draft plan and environmental assessment become part of the official public record. Requests for such comments will be handled in accordance with the Freedom of Information Act and other Service and Departmental policies and procedures.

Authority: This notice is published under the authority of the National Wildlife Refuge System Improvement Act of 1997, Pub. L. 105-57.

Dated: October 6, 2006.
Cynthia K. Dohner,
Acting Regional Director

[FR Doc. 06-9135 Filed 11-8-06; 8:45 am]

BILLING CODE 4310-55-M